DEPARTMENT OF TRANSPORTATION

Federal Aviation Administration

14 CFR Part 39

[Docket No. 2001-NM-252-AD; Amendment 39-12667; AD 2002-04-10]

RIN 2120-AA64

Airworthiness Directives; Airbus Model A319 Series Airplanes and A320-200 Series Airplanes

AGENCY: Federal Aviation Administration, DOT.

ACTION: Final rule.

SUMMARY: This amendment adopts a new airworthiness directive (AD), applicable to certain Airbus Model A319 series airplanes and A320-200 series airplanes, that requires repetitive inspections to detect loose or missing rivets in specified areas of the door frames of the overwing emergency exits and corrective action, if necessary. This AD also requires measurement of the grip length of all rivets in the specified areas and corrective action, if necessary, which terminates the repetitive inspections. This amendment is prompted by mandatory continuing airworthiness information from a foreign airworthiness authority. The actions specified by this AD are intended to detect and correct loose or missing rivets or discrepant rivets, which could lead to reduced structural integrity of the overwing emergency exit door frames. This action is intended to address the identified unsafe condition.

DATES: Effective April 5, 2002.

The incorporation by reference of certain publications listed in the regulations is approved by the Director of the Federal Register as of April 5, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Model A319 series airplanes and A320-200 series airplanes was published in the Federal Register on November 23, 2001 (66 FR 58682). That action proposed to require repetitive inspections to detect loose or missing rivets in specified areas of the door frames of the overwing emergency exits and corrective action, if necessary. That action also proposed to require measurement of the grip length of all rivets in the specified areas and corrective action, if necessary, which would terminate the repetitive inspections.

Comments

Interested persons have been afforded an opportunity to participate in the making of this amendment. No comments were submitted in response to the proposal or the FAA's determination of the cost to the public.

Conclusion

The FAA has determined that air safety and the public interest require the adoption of the rule as proposed.

Cost Impact

The FAA estimates that 168 Model A319 and A320-200 series airplanes of U.S. registry will be affected by this AD, that it will take approximately 1 work hour per airplane to accomplish the required inspection, and that the average labor rate is $60 per work hour. Based on these figures, the cost impact of this AD on U.S. operators is estimated to be $10,080, or $60 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-04-10 Airbus Industrie: Amendment 39-12667. Docket 2001-NM-252-AD.

Applicability: Model A319 series airplanes and A320-200 series airplanes, as listed in Airbus Service Bulletin A320-53-1147, dated September 22, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To detect and correct loose, missing, or discrepant rivets in specified areas of the door frames of the overwing emergency exits, which could lead to reduced structural integrity of the door frames, accomplish the following:

Inspection and Measurement

(a) Within 3,500 flight cycles after the effective date of this AD: Conduct a detailed visual inspection of the specified areas of the door frames of the overwing emergency exits for loose or missing rivets, in accordance with Part B of the Accomplishment Instructions and Figure 5 of Airbus Service Bulletin A320-53-1147, dated September 22, 2000. If no loose or missing rivets are found, repeat the detailed visual inspection and the measurement at intervals not to exceed 3,500 flight cycles until the requirements of paragraph (d) have been accomplished.

Note 2: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(b) If the inspection required by paragraph (a) of this AD reveals that there are loose or missing rivets: Prior to further flight, accomplish the requirements of either paragraph (b)(1) or (b)(2) of this AD.

(1) Measure the grip length of all rivets in the specified areas in which the loose or missing rivets were detected and perform corrective action (e.g., inspecting rivet holes for cracks, opening up rivet holes, repairing cracks at rivet holes, and installing new rivets) as applicable, in accordance with Part C of the Accomplishment Instructions and Figure 5 of Airbus Service Bulletin A320-53-1147, dated September 22, 2000, except as specified in paragraph (c) of this AD. Repeat the detailed visual inspection required by paragraph (a) of this AD at intervals not to exceed 3,500 flight cycles until the requirements of paragraph (d) have been accomplished.

(2) Measure the grip length of all rivets in all specified areas and perform corrective action (e.g., inspecting rivet holes for cracks, opening up rivet holes, repairing cracks at rivet holes, and installing new rivets) as applicable, in accordance with Part C of the Accomplishment Instructions and Figure 5 of Airbus Service Bulletin A320-53-1147, dated September 22, 2000, except as specified in paragraph (c) of this AD.

(c) If Airbus Service Bulletin A320-53-1147, dated September 22, 2000, recommends contacting the manufacturer for instructions concerning certain repairs, perform those repairs in accordance with a method approved by the Manager, International Branch, ANM-116, FAA, Transport Airplane Directorate, or by the Direction Generale de l'Aviation Civile (DGAC) or its delegated agent. For a repair method to be approved by the Manager, International Branch, ANM-116, as required by this paragraph, the Manager's approval letter must specifically reference this AD.

Terminating Action

(d) Prior to the accumulation of 24,000 total flight cycles or within 3,500 flight cycles after the effective date of this AD, whichever occurs later: Accomplish the requirements of paragraph (b)(2) of this AD. Accomplishment of paragraph (b)(2) of this AD constitutes terminating action for the purpose of this AD.

Alternative Methods of Compliance

(e) An alternative method of compliance or adjustment of the compliance time that provides an acceptable level of safety may be used if approved by the Manager, International Branch, ANM-116. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(f) Special flight permits may be issued in accordance with §§ 21.197 and 21.199 of the Federal Aviation Regulations (14 CFR 21.197 and 21.199) to operate the airplane to a location where the requirements of this AD can be accomplished.

Incorporation by Reference

(g) Except as provided by paragraph (c) of this AD, the actions shall be done in accordance with Airbus Service Bulletin A320-53-1147, dated September 22, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-241(B), dated June 27, 2001.

Effective Date

(h) This amendment becomes effective on April 5, 2002.

Issued in Renton, Washington, on February 21, 2002.
Vi L. Lipski,
Manager, Transport Airplane Directorate, Aircraft Certification Service.

[FR Doc. 02-4719 Filed 2-28-02; 8:45 am]

BILLING CODE 4910-13-U